DEPARTMENT OF COMMERCE

International Trade Administration

[A-423-813]

Citric Acid and Certain Citrate Salts From Belgium: Preliminary Results of Antidumping Duty Administrative Review; 2021-2022

AGENCY: Enforcement and Compliance, International Trade Administration, Department of Commerce.

SUMMARY: The U.S. Department of Commerce (Commerce) is conducting an administrative review of the antidumping duty (AD) order on citric acid and certain citrate salts (citric acid) from Belgium. We preliminarily determine that Citribel nv. (Citribel), formerly S.A. Citrique Belge N.V. (Citrique Belge), sold subject merchandise in the United States at prices below normal value during the July 1, 2021, through June 30, 2022, period of review (POR). We invite interested parties to comment on these preliminary results.

DATES: Applicable July 31, 2023.

FOR FURTHER INFORMATION CONTACT: Deborah Cohen, AD/CVD Operations, Office III, Enforcement and Compliance, International Trade Administration, U.S. Department of Commerce, 1401 Constitution Avenue NW, Washington, DC 20230; telephone: (202) 482-4521.

SUPPLEMENTARY INFORMATION:

Background

On July 25, 2018, Commerce published the AD order on citric acid from Belgium in the Federal Register.¹ On September 6, 2022, pursuant to section 751(a)(1) of the Tariff Act of 1930, as amended (the Act), Commerce initiated an AD administrative review of the Order with respect to one company, Citribel.² During the course of this administrative review, Citribel responded to Commerce's questionnaire and supplemental questionnaires. On March 1, 2023, Commerce extended the deadline for issuing the preliminary results of this review to July 28, 2023.³ For further details, see the accompanying Preliminary Decision Memorandum.⁴

¹ See Citric Acid and Certain Citrate Salts from Belgium, Colombia and Thailand: Antidumping Duty Orders, 83 FR 35214 (July 25, 2018) (Order).

² See Initiation of Antidumping and Countervailing Duty Administrative Reviews, 87 FR 54463 (September 6, 2022). Immediately prior to the initiation of this review, on July 29, 2022, Commerce completed a changed circumstances review, in which we determined that Citribel nv. is the successor-in-interest to S.A. Citrique Belge N.V., the sole respondent in all prior administrative reviews and the investigation of the Order. As a result, Citribel nv. is accorded the same AD cash deposit treatment as Citrique Belge with respect to subject merchandise. See Citric Acid and Certain Citrate Salts from Belgium: Final Results of Antidumping Duty Changed Circumstances Review, 87 FR 45750 (July 29, 2022) (Citric Acid Belgium CCR). As this name change occurred during the period of review and, thus, entries subject to this administrative review were made using both company names, both company names were listed in the Initiation Notice. Nevertheless, S.A. Citrique Belge N.V. and Citribel nv. represent the same respondent entity.

³ See Memorandum, “Extension of Deadline for Preliminary Results,” dated March 1, 2023.

⁴ See Memorandum, “Decision Memorandum for the Preliminary Results of the Antidumping Duty Administrative Review: Citric Acid and Certain Citrate Salts from Belgium; 2020-2021,” dated concurrently with, and hereby adopted by, this notice (Preliminary Decision Memorandum).

Scope of the Order

The merchandise covered by this Order includes all grades and granulation sizes of citric acid, sodium citrate, and potassium citrate in their unblended forms, whether dry or in solution, and regardless of packaging type. For a full description of the scope of the Order, see the Preliminary Decision Memorandum.

Methodology

Commerce is conducting this review in accordance with section 751(a) of the Act. Commerce calculated export price in accordance with section 772(a) of the Act and normal value in accordance with section 773 of the Act. For a full description of the methodology underlying our conclusions, see the Preliminary Decision Memorandum. See the appendix to this notice for a complete list of the topics discussed in the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed at https://access.trade.gov/public/FRNoticesListLayout.aspx.

Preliminary Results of the Review

Commerce preliminarily determines that the following weighted-average dumping margin exists for the period July 1, 2021, through June 30, 2022:

Exporter/producer | Weighted-average dumping margin (percent)
Citribel nv | 8.22

Disclosure and Public Comment

Commerce intends to disclose to interested parties the calculations performed for these preliminary results within five days of the date of publication of this notice.⁵ Interested parties may submit case briefs no later than 30 days after the date of publication of these preliminary results of review in the Federal Register.⁶ Rebuttal briefs, limited to issues raised in the case briefs, may be filed no later than seven days after the date for filing case briefs.⁷ Parties who submit case or rebuttal briefs in this proceeding are requested to submit with each argument: (1) a statement of the issue, (2) a brief summary of the argument, and (3) a table of authorities.⁸ Executive summaries should be limited to five pages total, including footnotes. Case and rebuttal briefs should be filed using ACCESS. Note that Commerce has temporarily modified certain portions of its requirements for serving documents containing business proprietary information, until further notice.⁹

⁵ See 19 CFR 351.224(b).

⁶ See 19 CFR 351.309(c)(1)(ii).

⁷ See 19 CFR 351.309(d); see also Temporary Rule Modifying AD/CVD Service Requirements Due to COVID-19; Extension of Effective Period, 85 FR 41363 (July 10, 2020) (Temporary Rule).

⁸ See 19 CFR 351.309(c)(2) and (d)(2); see also 19 CFR 351.303 (for general filing requirements).

⁹ See Temporary Rule.

Pursuant to 19 CFR 351.310(c), interested parties who wish to request a hearing must submit a written request to the Assistant Secretary for Enforcement and Compliance, filed electronically via ACCESS. An electronically-filed request must be received successfully in its entirely by 5:00 p.m. Eastern Time within 30 days of the date of publication of this notice in the Federal Register.¹⁰ Requests should contain: (1) the party's name, address, and telephone number; (2) the number of participants; and (3) a list of the issues to be discussed. If a request for a hearing is made, Commerce intends to hold the hearing at a time and date to be determined.¹¹ Parties should confirm the date, time and location of the hearing by telephone two days before the scheduled date.

¹⁰ See 19 CFR 351.310(c).

¹¹ See 19 CFR 351.310(d).

Commerce intends to issue the final results of this administrative review, including the results of our analysis of the issues raised in any the written briefs, no later than 120 days after the date of publication of this notice, unless otherwise extended.¹²

¹² See section 751(a)(3)(A) of the Act; and 19 CFR 351.213(h).

Assessment Rates

Upon issuance of the final results of this administrative review, Commerce shall determine, and U.S. Customs and Border Protection (CBP) shall assess, antidumping duties on all appropriate entries. If the weighted-average dumping margin for Citribel (i.e., the sole individually-examined respondent in this review) is not zero or de minimis (i.e., greater than or equal to 0.5 percent) in the final results of this review, we will calculate importer-specific ad valorem assessment rates for the merchandise based on the ratio of the total amount of dumping calculated for the examined sales made during the POR to each importer and the total entered value of those same sales, in accordance with 19 CFR 351.212(b)(1).¹³ Where an importer-specific ad valorem assessment rate is zero or de minimis in the final results of the review, we will instruct CBP to liquidate the appropriate entries without regard to antidumping duties.¹⁴ If Citribel's weighted-average dumping margin is zero or de minimis in the final results of the review, we will instruct CBP not to assess duties on any of its entries in accordance with the Final Modification for Reviews, i.e., “{w}here the weighted-average margin of dumping for the exporter is determined to be zero or de minimis, no antidumping duties will be assessed.” ¹⁵

¹³ As explained above, we determined that Citribel is the successor-in-interest to Citrique Belge. See Citric Acid Belgium CCR. This name change occurred during the period of review; thus, entries subject to this administrative review were made using both company names. Accordingly, we intend to issue assessment instructions covering entries produced and exported by both Citrique Belge and Citribel during the POR at the rate established in the final results.

¹⁴ See 19 CFR 351.106(c)(2).

¹⁵ See Antidumping Proceedings: Calculation of the Weighted-Average Dumping Margin and Assessment Rate in Certain Antidumping Proceedings; Final Modification, 77 FR 8101, 8102 (February 14, 2012) (Final Modification for Reviews).

For entries of subject merchandise during the POR produced by Citribel for which the producer did not know its merchandise was destined for the United States, we will instruct CBP to liquidate unreviewed entries at the all-others rate (i.e., 19.30 percent) ¹⁶ if there is no rate for the intermediate company (or companies) involved in the transaction.¹⁷

¹⁶ See Order, 83 FR at 35215.

¹⁷ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise entered, or withdrawn from warehouse, for consumption on or after the publication date of the final results of this administrative review, as provided by section 751(a)(2)(C) of the Act: (1) the cash deposit rate for Citribel will be equal to the weighted-average dumping margin established in the final results of this administrative review, except if the rate is less than 0.50 percent, and therefore de minimis within the meaning of 19 CFR 351.106(c)(1), in which case the cash deposit rate will be zero; (2) for previously reviewed or investigated companies not listed above, the cash deposit rate will continue to be the company-specific rate published for the most recently completed segment of this proceeding in which the company participated; (3) if the exporter is not a firm covered in this review, a prior review, or in the investigation but the producer is, the cash deposit rate will be the rate established for the most recently completed segment of this proceeding for the producer of the merchandise; and (4) the cash deposit rate for all other producers or exporters will continue to be the all-others rate of 19.30 percent, the rate established in the less-than-fair-value investigation of this proceeding.¹⁸ These cash deposit requirements, when imposed, shall remain in effect until further notice.

¹⁸ See Order, 83 FR at 35215.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.221(b)(4).

Dated: July 24, 2023.
Abdelali Elouaradia,
Deputy Assistant Secretary for Enforcement and Compliance.

Appendix

List of Topics Discussed in the Preliminary Decision Memorandum

I. Summary

II. Background

III. Scope of the Order

IV. Duty Absorption

V. Application of Facts Available and Use of Adverse Inferences

VI. Discussion of the Methodology

VII. Currency Conversion

VIII. Recommendation

[FR Doc. 2023-16201 Filed 7-28-23; 8:45 am]

BILLING CODE 3510-DS-P